DEPARTMENT OF ENERGY

Federal Energy Regulatory Commission

[Docket No. RP00-525-000]

Panhandle Eastern Pipe Line Company; Notice of Proposed Changes in FERC Gas Tariff

September 7, 2000.

Take notice that on August 31, 2000, Panhandle Eastern Pipe Line Company (Panhandle) tendered for filing as part of its FERC Gas Tariff, First Revised Volume No. 1, the tariff sheets listed on Appendix A to the filing, to become effective October 1, 2000.

Panhandle states that this filing is to remove from it's currently effective rates the Carryover Docket No. RP96-260-000 Settlement Volumetric Surcharge applicable to transportation service provided under Rate Schedules IT and EIT. The Carryover Docket No. RP96-260-000 Settlement Volumetric Surcharge, which was established in Docket No. RP99-497-000, was approved by Commission letter order issued September 30, 1999. In accordance with the Commission's letter order issued September 30, 1999, the Carryover Docket No. RP96-260-000 Settlement Volumetric Surcharge will terminate on September 30, 2000. Accordingly, Panhandle proposes to remove the 1.26¢ per Dt. Carryover Docket No. RP96-260-000 Settlement Volumetric Surcharge applicable to transportation service provided under Rate Schedules IT and EIT.

Panhandle states that copies of this filing are being served on all affected customers and applicable state regulatory agencies.

Any person desiring to be heard or to protest said filing should file a motion to intervene or a protest with the Federal Energy Regulatory Commission, 888 First Street, NE., Washington, DC 20426, in accordance with Sections 385.214 of 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23451 Filed 9-12-00; 8:45 am]

BILLING CODE 6717-01-M